DEPARTMENT OF ENERGY

Federal Energy Regulatory Commission

[Docket No. IC04-556-001, FERC Form-556]

Commission Information Collection Activities, Proposed Collection; Comment Request; Submitted for OMB Review

October 29, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of August 26, 2004 (69 FR 52495-96) and has made this indication in its submission to OMB.

DATES: Comments on the collection of information are due by November 30, 2004.

ADDRESSES: Address comments on the information collection to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-4650. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-556-001.

Documents filed electronically via the Internet must be prepared in, MS Word, Portable Document Format, Word Perfect or ASCII format. To file the document, access the Commission's Web site at http://www.ferc.gov and click on “Make an e-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 556 “Application for Authorization of Issuance of Securities.”

2. Sponsor: Federal Energy Regulatory Commission.

3. Control No.: 1902-0075.

The Commission is now requesting that OMB approve with a three-year extension of the expiration date, with no changes to the existing collection. The information filed with the Commission is mandatory.

4. Necessity of the Collection of Information: Submission of the information is necessary to enable the Commission to carry out its responsibilities in implementing the statutory provisions of section 3 of the Federal Power Act (FPA) (16 U.S.C. 792-828c) and sections 201 and 210 of the Public Utility Regulatory Policies Act of 1978 (PURPA). The reporting requirements associated with FERC Form 556 require owners or operators of small power production or cogeneration facilities, who seek qualifying status for their facilities, to file the information requested in Form 556 for Commission certification as a qualifying facility (QF).

A primary objective of PURPA is the conservation of energy through efficient use of energy resources in the generation of electric power. One means of achieving this objective is to encourage electric power production by cogeneration facilities which make use of reject heat associated with commercial or industrial processes, and by small power production facilities which use waste and renewable resources as fuel. PURPA through the establishment of various regulatory benefits, encourages the development of small power production facilities and cogeneration facilities which meet certain technical and corporate criteria. Facilities that meet these criteria are called QF's.

Owners and operators of small power production and cogeneration facilities desiring QF certification for their facilities must file the information prescribed in FERC Form 556 with the Commission. (A copy of the form can be obtained from the Commission's Web site at http://www.ferc.gov/docs-filing/hard-fil-elec.asp#556.) In addition to identifying the required filing information, FERC Form 556 also outlines the QF certification procedure, and specifies the criteria that must be met for QF certification. Respondents who comply with the FERC Form 556 criteria and are granted QF certification by the Commission are exempt from certain sections of the FPA and the Public Utility Holding Company Act of 1935 as listed in 18 CFR 292.601 and 292.602. The Commission implements these filing requirements in the Code of Federal Regulations (CFR) under 18 CFR part 292.

5. Respondent Description: The respondent universe currently comprises 297 respondents (on average per year) subject to the Commission's jurisdiction.

6. Estimated Burden: 10,368 total hours, 297 respondents (average per year), 1 response(s) per respondent, and 4 hours per response (using FERC Form 556) and 38 hours per response (using self certification) (average).

7. Estimated Cost Burden to Respondents: 10,368 hours / 2080 hours per years × $107,185 per year = $534,276.

Statutory Authority: Sections 3 of the Federal Power Act (FPA) (16 U.S.C. 792-828c) and Sections 201 and 210 of the Public Utility Regulatory Policies Act of 1978 (16 U.S.C § 2601).

Magalie R. Salas,
Secretary.

[FR Doc. 04-24598 Filed 11-3-04; 8:45 am]

BILLING CODE 6717-01-P